DEPARTMENT OF TRANSPORTATION

Federal Aviation Administration

14 CFR Part 39

[Docket No. FAA-2007-0215; Directorate Identifier 2007-NM-216-AD]

RIN 2120-AA64

Airworthiness Directives; Bombardier Model CL-600-2B19 (Regional Jet Series 100 & 440) Airplanes

AGENCY: Federal Aviation Administration (FAA), Department of Transportation (DOT).

ACTION: Notice of proposed rulemaking (NPRM).

SUMMARY: The FAA proposes to supersede an existing airworthiness directive (AD) that applies to certain Bombardier Model CL-600-2B19 (Regional Jet Series 100 & 440) airplanes. The existing AD currently requires inspecting contactors 1K4XD, 2K4XD, and K4XA to determine the type of terminal base plate, and applying sealant on the terminal base plates if necessary. This proposed AD would require an inspection to determine if certain alternating current (AC) service and utility bus contactors have a terminal base plate made from non-G9 melamine material, and corrective actions if necessary; or reidentification of the mounting tray of the contactors; as applicable. This proposed AD also limits the applicability of the existing AD. This proposed AD results from incidents of short circuit failures of certain AC contactors located in the avionics bay. We are proposing this AD to prevent short circuit failures of certain AC contactors, which could result in arcing and consequent smoke or fire.

DATES: We must receive comments on this proposed AD by December 21, 2007.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Bombardier, Inc., Canadair, Aerospace Group, P.O. Box 6087, Station Centre-ville, Montreal, Quebec H3C 3G9, Canada.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Wing Chan, Aerospace Engineer, Systems and Flight Test Branch, ANE-172, FAA, New York Aircraft Certification Office, 1600 Stewart Avenue, suite 410, Westbury, New York 11590; telephone (516) 228-7311; fax (516) 794-5531.

SUPPLEMENTARY INFORMATION:

Comments Invited

We invite you to send any written relevant data, views, or arguments about this proposed AD. Send your comments to an address listed under the ADDRESSES section. Include “Docket No. FAA-2007-0215; Directorate Identifier 2007-NM-216-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On August 14, 2006, we issued AD 2006-17-14, amendment 39-14735 (71 FR 49337, August 23, 2006), for certain Bombardier Model CL-600-2B19 (Regional Jet Series 100 & 440) airplanes. That AD requires inspecting contactors 1K4XD, 2K4XD, and K4XA to determine the type of terminal base plate, and applying sealant on the terminal base plates, if necessary. That AD resulted from incidents of short circuit failures of certain alternating current (AC) contactors located in the avionics bay. We issued that AD to prevent short circuit failures of certain AC contactors, which could result in arcing and consequent smoke or fire.

Actions Since Existing AD Was Issued

The preamble to AD 2006-17-14 explains that we consider the requirements “interim action” and were considering further rulemaking. We now have determined that further rulemaking is indeed necessary, and this proposed AD follows from that determination.

Relevant Service Information

Bombardier has issued Service Bulletin 601R-24-123, Revision B, dated February 16, 2007. The service bulletin describes the following actions, depending on the airplane configuration:

• Doing a visual inspection to determine if AC utility bus contactors 1K4XD and 2K4XD, part number (P/N) D-18ZZA, and the AC service bus contactor K4XA, P/N D-7GRZ, have a terminal base plate made from non-G9 melamine material (Ultem 2200 material or black in color), and doing applicable corrective actions. The corrective actions include replacing damaged terminal lugs with new lugs, repairing or replacing damaged wire with new wire, and replacing a certain AC service or utility bus contactor with a new one; as applicable.

• Changing the service bulletin number on the mounting tray of the contactors.

Accomplishing the actions specified in the service information is intended to adequately address the unsafe condition. Transport Canada Civil Aviation (TCCA), which is the airworthiness authority for Canada, mandated the service information and issued Canadian airworthiness directive CF-2006-17R1, dated May 30, 2007, to ensure the continued airworthiness of these airplanes in Canada.

FAA's Determination and Requirements of the Proposed AD

These airplanes are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that AD action is necessary for airplanes of this type design that are certificated for operation in the United States.

This proposed AD would supersede AD 2006-17-14 and would continue to require inspecting contactors 1K4XD, 2K4XD, and K4XA to determine the type of terminal base plate, and applying sealant on the terminal base plates if necessary. This proposed AD also would require accomplishing the actions specified in the service bulletin described previously, which would constitute terminating action for the requirements of this proposed AD.

Change to Existing AD

AD 2006-17-14 affects Bombardier Model CL-600-2B19 (Regional Jet Series 100 & 440) airplanes, certificated in any category; serial numbers 7003 through 7990 inclusive and 8000 and subsequent. This proposed AD would limit the applicability to those airplanes having serial numbers 7003 through 7990 inclusive and 8000 through 8070 inclusive. This change parallels the applicability of the Canadian airworthiness directive CF-2006-17R1.

Costs of Compliance

The following table provides the estimated costs for U.S. operators to comply with this proposed AD.

Estimated Costs
Action | Work hours | Average labor rate per hour | Cost per airplane | Number of U.S.-registered airplanes | Fleet cost
Inspection (required by AD 2006-17-14) | 3 | $80 | $240 | 739 | $177,360.
New proposed actions (depending on the airplane configuration) | 1 or 2 | 80 | $80 or $160 | 739 | Between $59,120 and $118,240.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14735 (71 FR 49337, August 23, 2006) and adding the following new airworthiness directive (AD):

Bombardier, Inc. (Formerly Canadair): Docket No. FAA-2007-0215; Directorate Identifier 2007-NM-216-AD.

Comments Due Date

(a) The FAA must receive comments on this AD action by December 21, 2007.

Affected ADs

(b) This AD supersedes AD 2006-17-14.

Applicability

(c) This AD applies to Bombardier Model CL-600-2B19 (Regional Jet Series 100 & 440) airplanes, certificated in any category; serial numbers 7003 through 7990 inclusive, and 8000 through 8070 inclusive.

Unsafe Condition

(d) This AD results from incidents of short circuit failures of certain alternating current (AC) contactors located in the avionics bay. We are issuing this AD to prevent short circuit failures of certain AC contactors, which could result in arcing and consequent smoke or fire.

Compliance

(e) You are responsible for having the actions required by this AD performed within the compliance times specified, unless the actions have already been done.

Requirements of AD 2006-17-14

Inspection and Corrective Action

(f) Within 800 flight hours or four months after September 7, 2006 (the effective date of AD 2006-17-14), whichever occurs first: Do a general visual inspection of AC bus contactors 1K4XD and 2K4XD, part number (P/N) D-18ZZA, and the bus contactor K4XA, P/N D-7GRZ, to determine which contactors have an Ultem 2200 terminal base plate (i.e., the plate is made from a black molded thermal plastic material), and apply RTV sealant to the terminal base plate, as applicable, by doing all the actions specified in the Accomplishment Instructions of Bombardier Service Bulletin 601R-24-122, Revision A, dated July 13, 2006. Do all applicable applications of sealant before further flight.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Previous Actions Accomplished According to Other Service Information

(g) Actions accomplished before September 7, 2006, in accordance with Bombardier Drawing Number K601R50180, dated June 2, 2006; or Bombardier Service Bulletin 601R-24-122, dated June 27, 2006; are considered acceptable for compliance with the actions specified in paragraph (f) of this AD.

New Requirements of This AD

Inspection and Corrective Action

(h) Within 12 months after the effective date of this AD, do a general visual inspection, reidentification, and corrective actions, as applicable, by doing all the applicable actions specified in the Accomplishment Instructions of Bombardier Service Bulletin 601R-24-123, Revision B, dated February 16, 2007. Do the applicable corrective action before further flight. Accomplishment of these actions constitutes terminating action for the requirements of this AD.

Parts Installation

(i) As of the effective date of this AD, no person may install any AC contactor 1K4XD, 2K4XD, or K4XA, having a non-G9 melamine terminal base plate, on any airplane.

Alternative Methods of Compliance (AMOCs)

(j)(1) The Manager, New York Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(k) Canadian airworthiness directive CF-2006-17R1, dated May 30, 2007, also addresses the subject of this AD.

Issued in Renton, Washington, on November 13, 2007.
Ali Bahrami,
Manager, Transport Airplane Directorate, Aircraft Certification Service.

[FR Doc. E7-22726 Filed 11-20-07; 8:45 am]

BILLING CODE 4910-13-P